ENVIRONMENTAL PROTECTION AGENCY

40 CFR Part 261

Identification and Listing of Hazardous Waste

CFR Correction

In Title 40 of the Code of Federal Regulations, Parts 260 to 265, revised as of July 1, 2017, on page 64, in § 261.6, paragraph (a)(2)(iv) is reinstated to read as follows:

§ 261.6 Requirements for recyclable materials.

(a)(1) * * *

(2) * * *

(iv) Spent lead-acid batteries that are being reclaimed (40 CFR part 266, subpart G).

* * * * *

[FR Doc. 2018-02518 Filed 2-6-18; 8:45 am]

BILLING CODE 1301-00-D